DEPARTMENT OF TRANSPORTATION

Coast Guard

33 CFR Part 165

[COTP Memphis 01-007]

RIN 2115-AA97

Safety Zone; Lower Mississippi River, LMR mile 531.3 to 537, Vaucluse Trenchfill

AGENCY: Coast Guard, DOT.

ACTION: Temporary final rule.

SUMMARY: The Coast Guard is establishing a safety zone for the Mississippi River from mile 531.3 to 537.0. This zone is needed to allow the Army Corps of Engineers' contractors to strengthen the integrity of the Vaucluse Trenchfill. Navigation within this zone will be prohibited from 6 a.m. to 6 p.m. (CDT) unless specifically authorized by the Captain of the Port Memphis.

DATES: This rule is effective from 6 a.m. (CDT) on June 11, 2001, through 6 p.m. (CDT) on September 2, 2001.

ADDRESSES: Comments and material received from the public, as well as documents indicated in this preamble as being available in the docket, are part of docket COTP Memphis 01-007 and are available for inspection or copying at U.S. Coast Guard Marine Safety Office, 200 Jefferson Ave., Memphis, TN 38103-2300, between 7:30 a.m. and 4 p.m., Monday through Friday, except Federal holidays.

FOR FURTHER INFORMATION CONTACT: COTP Memphis representative, LT Brian Meier, at (901) 544-3941 ext. 226.

SUPPLEMENTARY INFORMATION:

Regulatory Information

We did not publish a notice of proposed rulemaking (NPRM) for this regulation. Under 5 U.S.C. 553(b)(B), the Coast Guard finds that good cause exists for not publishing an NPRM, and, under 5 U.S.C. 553(d)(3), good cause exists for making this rule effective less than 30 days after publication in the Federal Register. This type of construction project requires specific river conditions that are difficult to predict. Publishing a NPRM and delaying its effective date would be contrary to public interest since immediate action is needed to ensure that the project can be completed under optimal conditions. Reinforcement of the Vaucluse Trenchfill is also immediately needed to maintain the integrity of the right descending bank of the Mississippi River at the project site.

Background and Purpose

Due to bendway weir construction in the vicinity of the Vaucluse Trenchfill, LMR mile 533, the Coast Guard is establishing a safety zone for the Mississippi River from mile 531.3 to 537.0. Beginning on June 11, 2001, navigation will be closed every day from 6 a.m. to 6 p.m. (CDT) within the aforementioned zone. No vessels may enter or remain within this safety zone unless specifically authorized by the Captain of the Port Memphis. Vessels shall contact the M/V PATRICK on channel 13 or 16 for closure information and passing instructions. This safety zone will remain in effect until the construction project is completed. The contract construction time is approximately 83 days. This zone is needed to allow the Army Corps of Engineers' contractors to strengthen the integrity of the Vaucluse Trenchfill.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979). The Coast Guard expects the economic impact of this rule to be so minimal that a full regulatory evaluation is unnecessary. The regulation will be in effect for a long period of time, but each day during night hours river traffic will be unrestricted, minimizing the impacts on routine navigation.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. The impacts on small entities are expected to be minimal.

Assistance for Small Entities

Under section 213(a) of the Small Business Regulatory Enforcement Fairness Act of 1996 (Pub. L. 104-121), we offer to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under figure 2-1, paragraph (34) g, of Commandant Instruction M16475.lC, this rule is categorically excluded from further environmental documentation.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects

Harbors, Marine safety, Navigation (water), Reporting and recordkeeping requirements, Security measures, Waterways.

For the reasons discussed in the preamble, the Coast Guard amends 33 CFR part 165 as follows:

PART 165—[AMENDED]

1. The authority citation for part 165 continues to read as follows:

Authority: 33 U.S.C. 1231; 50 U.S.C. 191, 33 CFR 1.05-1(g), 6.04-1, 6.04-6, 160.5; 49 CFR 1.46.

2. A new § 165.T08-038 is added to read as follows:

§ 165.T08-038 Safety Zone; Lower Mississippi River, LMR mile 531.3 to 537, Vaucluse Trenchfill.

(a) Location. The following area is a safety zone: the waters of the Mississippi River from mile LMR mile 531.3 to 537.0.

(b) Effective date. This section is effective daily from 6 a.m. to 6 p.m. (CDT) from June 11, 2001, through September 2, 2001.

(c) Regulations.

(1) In accordance with the general regulations in § 165.23 of this part, entry into this zone is prohibited unless authorized by the Captain of the Port Memphis.

(2) No vessels may enter or remain within this safety zone unless specifically authorized by the Captain of the Port Memphis. Vessels shall contact the M/V PATRICK on channel 13 or 16 for closure information and passing instructions. The Captain of the Port will notify the public of changes in the status of this zone by Marine Radio Safety Broadcast on VHF Marine Band Radio, Channel 22 (157.1 MHz).

Dated: June 8, 2001.
R.R. O'Brien, Jr.,
Commander, U.S. Coast Guard, Captain of the Port.

[FR Doc. 01-18677 Filed 7-25-01; 8:45 am]

BILLING CODE 4910-15-P